DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Evaluations of Coastal Zone Management Act Programs: State Coastal Management Programs and National Estuarine Research Reserves.

OMB Control Number: 0648-0661.

Form Number(s): None.

Type of Request: Regular (revision and extension of a currently approved information collection).

Number of Respondents: 432.

Average Hours per Response: Program manager information collection, 71 hours; stakeholder and partner survey, 15 minutes.

Burden Hours: 957.

Needs and Uses: This request is for revision and extension of a currently approved information collection. A few questions have been removed from the instruments, and others rewritten to be more focused.

The Coastal Zone Management Act of 1972, as amended (CZMA; 16 U.S.C. 1451 et seq.) requires that state coastal management programs and national estuarine research reserves developed pursuant to the CZMA and approved by the Secretary of Commerce be evaluated periodically. This request is for collection of information to accomplish those evaluations.

NOAA's Office of Ocean and Coastal Resource Management (OCRM) conducts periodic evaluations of the 34 coastal management programs and 28 research reserves and produces written findings for each evaluation. OCRM has access to documents submitted in cooperative agreement applications, performance reports, and certain documentation required by the CZMA and implementing regulations. However, additional information from each coastal management program and research reserve, as well as information from the program and reserve partners and stakeholders with whom each works, is necessary to evaluate against statutory and regulatory requirements. Different information collection subsets are necessary for (1) coastal management programs, (2) their partners and stakeholders, (3) research reserves, and (4) their partners and stakeholders.

Affected Public: State, local and tribal governments; business or other for-profit organizations; not-for-profit institutions.

Frequency: Every 5-6 years.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: March 18, 2016.
Sarah Brabson,
NOAA PRA Clearance Officer.

[FR Doc. 2016-06526 Filed 3-22-16; 8:45 am]

BILLING CODE 3510-08-P